DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On July 18, 2019, OFAC determined that the property and interests in property subject to U.S. jurisdiction of the following persons are blocked under the relevant sanctions authorities listed below.

Entities

1. BAKHTAR RAAD SEPAHAN COMPANY (a.k.a. BAKHTAR RAAD ENGINEERING COMPANY; a.k.a. BAKHTAR RAAD SEPAHAN CO.; a.k.a. RADSEPAHAN), Number 8, Keyvan 2 Building, between 2nd & 3rd Western Avenue, Mohaberat Street, Shahinshahr, Esfahan, Iran; Additional Sanctions Information—Subject to Secondary Sanctions [NPWMD] [IFSR] (Linked To: IRAN CENTRIFUGE TECHNOLOGY COMPANY).

Designated pursuant to section 1(a)(iii) of Executive Order 13382 of June 28, 2005, “Blocking Property of Weapons of Mass Destruction Proliferators and Their Supporters” (“E.O. 13382”), for having provided, or attempted to provide, financial, material, technological or other support for, or goods or services in support of, IRAN CENTRIFUGE TECHNOLOGY COMPANY, a person whose property and interests in property are blocked pursuant to E.O. 13382.

2. TAWU MECHANICAL ENGINEERING AND TRADING COMPANY (f.k.a. METAALKUNDE BV; a.k.a. TAWU BVBA; a.k.a. TAWU BVBA MECHANICAL ENGINEERING AND TRADING COMPANY; a.k.a. “TAWU”), Bleidenhoek 34, 2230 Herselt, Belgium; Additional Sanctions Information—Subject to Secondary Sanctions; V.A.T. Number BE0686.896.689 (Belgium); Business Registration Number 686896689 (Belgium); alt. Business Registration Number BE0686896689 (Belgium) [NPWMD] [IFSR] (Linked To: IRAN CENTRIFUGE TECHNOLOGY COMPANY).

Designated pursuant to section 1(a)(iii) of E.O. 13382, for having provided, or attempted to provide, financial, material, technological or other support for, or goods or services in support of, IRAN CENTRIFUGE TECHNOLOGY COMPANY, a person whose property and interests in property are blocked pursuant to E.O. 13382.

Designated pursuant to section 1(a)(iv) of E.O. 13382, for being owned or controlled by, or acting or purporting to act for or on behalf of, directly or indirectly, SOHAYL TALEBI, a person whose property and interests in property are blocked pursuant to E.O. 13382, and pursuant to section 1(a)(iii) of E.O. 13382, for having provided, or attempted to provide, financial, material, technological or other support for, or goods or services in support of, IRAN CENTRIFUGE TECHNOLOGY COMPANY, a person whose property and interests in property are blocked pursuant to E.O. 13382.

Designated pursuant to section 1(a)(iii) of E.O. 13382, for having provided, or attempted to provide, financial, material, technological or other support for, or goods or services in support of, IRAN CENTRIFUGE TECHNOLOGY COMPANY, a person whose property and interests in property are blocked pursuant to E.O. 13382.

5. TAMIN KALAYE SABZ ARAS COMPANY (a.k.a. KALAYE SABZ ORZ COMPANY; a.k.a. TAMIN KALAYE SABZ; a.k.a. TAMIN KALAYE SABZ COMPANY; a.k.a. “KSO COMPANY”; a.k.a. “TS CO.”; a.k.a. “TS COMPANY”), No. 13, Unit 12, Sazman Ab Ave., Jenah Blvd., Tehran, Iran; Additional Sanctions Information—Subject to Secondary Sanctions; National ID No. 1463468660 (Iran); Company Number 10980302323 (Iran) [NPWMD] [IFSR] (Linked To: IRAN CENTRIFUGE TECHNOLOGY COMPANY).

Designated pursuant to section 1(a)(iii) of E.O. 13382, for having provided, or attempted to provide, financial, material, technological or other support for, or goods or services in support of, IRAN CENTRIFUGE TECHNOLOGY COMPANY, a person whose property and interests in property are blocked pursuant to E.O. 13382.

Designated pursuant to section 1(a)(iii) of E.O. 13382, for having provided, or attempted to provide, financial, material, technological or other support for, or goods or services in support of, TAMIN KALAYE SABZ ARAS COMPANY, a person whose property and interests in property are blocked pursuant to E.O. 13382.

Designated pursuant to section 1(a)(iii) of E.O. 13382, for having provided, or attempted to provide, financial, material, technological or other support for, or goods or services in support of, TAMIN KALAYE SABZ ARAS COMPANY, a person whose property and interests in property are blocked pursuant to E.O. 13382.

Individuals

1. KARIMI-ADEGANI, Afsaneh (a.k.a. KARIMIADEGANI, Afsaneh); DOB 06 Jul 1970; nationality Iran; Additional Sanctions Information—Subject to Secondary Sanctions; Gender Female; Passport F35323181 (Iran) (individual) [NPWMD] [IFSR] (Linked To: IRAN CENTRIFUGE TECHNOLOGY COMPANY).

Designated pursuant to section 1(a)(iii) of E.O. 13382, for having provided, or attempted to provide, financial, material, technological or other support for, or goods or services in support of, IRAN CENTRIFUGE TECHNOLOGY COMPANY, a person whose property and interests in property are blocked pursuant to E.O. 13382.

2. TALEBI, Sohayl (a.k.a. TALEBI, Soheyl), Vriesenhof 3000 Leuven, Belgium; DOB 28 May 1960; nationality Iran; Additional Sanctions Information—Subject to Secondary Sanctions; Gender Male (individual) [NPWMD] [IFSR] (Linked To: IRAN CENTRIFUGE TECHNOLOGY COMPANY).

Designated pursuant to section 1(a)(iii) of E.O. 13382, for having provided, or attempted to provide, financial, material, technological or other support for, or goods or services in support of, IRAN CENTRIFUGE TECHNOLOGY COMPANY, a person whose property and interests in property are blocked pursuant to E.O. 13382.

3. BORJI, Salim (a.k.a. BORJI SOUMEH, Salim); DOB 22 Dec 1964; citizen Iran; Additional Sanctions Information—Subject to Secondary Sanctions; Gender Male; Passport B30739118 (Iran) (individual) [NPWMD] [IFSR] (Linked To: TAMIN KALAYE SABZ ARAS COMPANY).

Designated pursuant to section 1(a)(iv) of E.O. 13382, for acting or purporting to act for or on behalf of, directly or indirectly, TAMIN KALAYE SABZ ARAS COMPANY, a person whose property and interests in property are blocked pursuant to E.O. 13382.

4. NAJAFI, Mehdi (a.k.a. MOJTAHEDNAJAFI, Seyedmehdi; a.k.a. MOJTAHEDNAJAFI, Seyedmehdi Miraliasghar; a.k.a. NAJAFI, Seyed Mehdi Mojtahed), No. 1-30th Bld# 2nd, Shahrak Farhangian Sheykh Fazlollah Nour, Tehran 1464873861, Iran; DOB 21 Sep 1971; POB Tehran, Iran; nationality Iran; Additional Sanctions Information—Subject to Secondary Sanctions; Gender Male; Passport I15597905 (Iran); National ID No. 0054385946 (Iran) (individual) [NPWMD] [IFSR] (Linked To: IRAN CENTRIFUGE TECHNOLOGY COMPANY).

Designated pursuant to section 1(a)(iii) of E.O. 13382, for having provided, or attempted to provide, financial, material, technological or other support for, or goods or services in support of, IRAN CENTRIFUGE TECHNOLOGY COMPANY, a person whose property and interests in property are blocked pursuant to E.O. 13382.

5. FAKHRZADEH, Mohammad (a.k.a. FAKHR ZADEH, Mohammad), Tehran, Iran; DOB 22 May 1978; POB Malayer, Iran; Additional Sanctions Information—Subject to Secondary Sanctions; Gender Male; National ID No. 3932714806 (Iran) (individual) [NPWMD] [IFSR] (Linked To: IRAN CENTRIFUGE TECHNOLOGY COMPANY).

Designated pursuant to section 1(a)(iv) of E.O. 13382, for acting or purporting to act for or on behalf of, directly or indirectly, IRAN CENTRIFUGE TECHNOLOGY COMPANY, a person whose property and interests in property are blocked pursuant to E.O. 13382.

Dated: July 18, 2019.
Bradley T. Smith,
Deputy Director, Office of Foreign Assets Control, U.S. Department of the Treasury.

[FR Doc. 2019-15796 Filed 7-29-19; 8:45 am]

BILLING CODE 4810-AL-P